DEPARTMENT OF DEFENSE

Department of the Army; Corps of Engineers

Availability of a Draft Feasibility Study With Integrated Environmental Impact Statement (EIS), Ala Wai Canal Project, Oahu, HI

AGENCY: Department of the Army, U.S. Army Corps of Engineers, DoD.

ACTION: Notice; extension of comment period.

SUMMARY: The comment period for the Draft Feasibility Study With Integrated Environmental Impact Statement (EIS), Ala Wai Canal Project, Oahu, HI published in the Federal Register on Friday, August 21, 2015 (80 FR 50832), required comments be submitted by October 7, 2015. The comment period has been extended to November 9, 2015.

FOR FURTHER INFORMATION CONTACT: Mr. Derek Chow, U.S. Army Corps of Engineers, Honolulu District, 808-835-4026 or via email at Derek.J.Chow@usace.army.mil.

Brenda S. Bowen,
Army Federal Register Liaison Officer.

[FR Doc. 2015-24771 Filed 9-29-15; 8:45 am]

BILLING CODE 3720-58-P